SMALL BUSINESS ADMINISTRATION

New Markets Venture Capital Companies; Minimum Draw Under SBA's Leverage Commitment

AGENCY: U.S. Small Business Administration (SBA).

ACTION: Notice.

SUMMARY: This Notice provides a minimum dollar amount of $100,000 for draws against SBA leverage commitments to New Markets Venture Capital Companies under the New Markets Venture Capital Program. This Notice will be effective until superceded by another Federal Register Notice.

DATES: This notice is effective December 18, 2001.

ADDRESSES: Austin J. Belton, Director, Office of New Markets Venture Capital, Investment Division, U.S. Small Business Administration, 409 Third Street, SW, 6th Floor, Washington, DC 20416.

FOR FURTHER INFORMATION CONTACT: Peter C. Gibbs, Deputy Director, Office of New Markets Venture Capital, telephone: (202) 205-7574, or at the e-mail address, peter.gibbs@sba.gov.

SUPPLEMENTARY INFORMATION: SBA's New Markets Venture Capital (NMVC) Program (Program) is authorized by the NMVC Program Act of 2000, 15 U.S.C. 689-689q. Information about the Program is available at http://www.sba/gov/INV. The implementing regulations for this Program were issued on May 23, 2001 (66 FR 28602).

Under these rules, SBA has the authority and discretion to determine a minimum dollar amount for draws against SBA's Leverage commitments. 13 CFR 108.1230(b). Leverage means financial assistance provided to a NMVC Company by SBA through the guaranty of a NMVC Company's Debentures, and any other SBA financial assistance evidenced by a security of the NMVC Company.

Pursuant to 13 CFR 108.1230(b), the amount of a draw that a NMVC Company may take against SBA's leverage commitment must be a multiple of $5,000. Any minimum dollar amount for draws determined in SBA's discretion are published in Notices in the Federal Register from time to time. This is the first Notice SBA has issued establishing a minimum dollar amount for draws. Under the authority set forth in this Notice, effective the date of publication of this Notice, and until further notice, the minimum dollar amount of a draw is $100,000. (For example, for each draw, a NMVC Company may request a draw in the amount of $100,000 or $105,000 or $110,000, and so on up to the total amount of Leverage committed to but not yet drawn by that NMVC Company.)

Program Authority: 15 U.S.C. §§ 689-689q.
Dated: December 11, 2001.
Harry Haskins,
Acting Associate Administrator for Investment.

[FR Doc. 01-31100 Filed 12-17-01; 8:45 am]

BILLING CODE 8025-01-U